DEPARTMENT OF LABOR

Employment and Training Administration

Workforce Investment Act; Native American Employment and Training Council

AGENCY: Employment and Training Administration, U. S. Department of Labor.

ACTION: Notice of Teleconference Meeting.

SUMMARY: Pursuant to Section 10(a)(2) of the Federal Advisory Committee Act (FACA) (Pub. L. 92-463), as amended, and Section 166(h)(4) of the Workforce Investment Act (WIA) [29 U.S.C. 2911(h)(4)], notice is hereby given of the next teleconference meeting of the Native American Employment and Training Council (Council), as constituted under WIA.

DATES: The teleconference meeting will begin at 2:00 p.m. (Eastern Time) on Thursday, January 31, 2013, and continue until 4:00 p.m. that day. The call in number is (888) 316-9414. Council members must enter the participants pass code number 4738145#. Members of the public can access the teleconference via listening mode by calling (800) 779-2568 and entering pass code 9921457#.

ADDRESSES: On January 31, 2013, the teleconference is being held at the U.S. Department of Labor, Francis Perkins Building, 200 Constitution Avenue, Northwest, Room S-2320, Washington, DC 20210.

SUPPLEMENTARY INFORMATION: The teleconference is open to the public. Members of the public not participating on the teleconference call may submit a written statement on or before January 16, 2013, to be included in the record of the meeting. Submit written statements to Mrs. Evangeline M. Campbell, Designated Federal Official (DFO), U.S. Department of Labor, 200 Constitution Avenue, Northwest, Room S-4209, Washington, DC 20210. The formal agenda will focus on the following topics: (1) Two Page White Paper on Statement of Urgency Section 166 Indian and Native American Programs; (2) DOL, Division of Indian and Native American Program Update on the Education (Credential) Measure; and (3) Council Update and Recommendations. Persons who need special accommodations (TTY), or members of the public who would like a copy of the formal agenda, should contact Mr. Craig Lewis at (202) 693-3384, at least two business days before the meeting.

FOR FURTHER INFORMATION CONTACT: Mrs. Evangeline M. Campbell, DFO, Division of Indian and Native American Programs, Employment and Training Administration, U.S. Department of Labor, Room S-4209, 200 Constitution Avenue, Northwest, Washington, DC 20210. Telephone number (202) 693-3737 (VOICE) (this is not a toll-free number).

Signed at Washington, DC, this 8th day of January, 2013.
Jane Oates,
Assistant Secretary, Employment and Training Administration.

[FR Doc. 2013-00651 Filed 1-14-13; 8:45 am]

BILLING CODE 4501-FR-P